DEPARTMENT OF HOMELAND SECURITY

U.S. Customs and Border Protection

Correction of Document Revoking Customs Broker Licenses

AGENCY: U.S. Customs and Border Protection, Department of Homeland Security.

ACTION: Correction of document revoking certain customs broker licenses.

SUMMARY: In a notice published in the Federal Register in December 6, 2012, announcing the revocation of certain customs broker licenses, while correctly listing some broker license numbers that were revoked, CBP inadvertently linked certain broker license numbers to the incorrect broker's name. In this document, CBP is correcting the errors in that document by accurately listing those broker names and license numbers that were revoked and by listing those broker names and license numbers that were not revoked and are currently active.

SUPPLEMENTARY INFORMATION: In the December 6, 2012 Federal Register (77 FR 72873) notice, CBP inadvertently provided the wrong customs broker names for the correct customs broker license numbers that were being revoked. The following customs brokers were incorrectly identified by name. Some of these customs broker licenses should not have had their licenses revoked and are currently active, whereas others have not filed their triennial status report and have had their customs broker license revoked.

Last name | First name | License No. | Port of issuance
Cosmo Customs Service, Inc. |  | 23831 | Atlanta.
Miller | John S. | 16462 | Atlanta.
Koss | Lori J. | 20529/16184 (legacy) | Buffalo.
Downie | Kevin | 20664 | Chicago.
Gregersen | Gerda | 10970 | Houston.
Genesis Forwarding Services of California, Inc |  | 17573 | Los Angeles.
Henry | Hiram L. | 12779 | Los Angeles.
Duncan | Robert A. | 15524 | New York.
Lugon-Moulin | Shelley | 17583 | San Diego.

Of these customs brokers who were incorrectly named in the notice published on December 6, 2012 in the Federal Register, four of them have had their licenses revoked for failure to file a triennial status report. Notice is hereby given that, pursuant to section 641 of the Tariff Act of 1930, as amended (19 U.S.C. 1641) and section 111.30(d) of title 19 of the Code of Federal Regulations (19 CFR 111.30(d)), the following customs broker licenses are revoked by operation of law without prejudice.

Last name | First name | License No. | Port of issuance
Miller | John S. | 16462 | Atlanta.
Genesis Forwarding Services of California, Inc |  | 17573 | Los Angeles.
Lugon-Moulin | Shelley | 17583 | San Diego.

The remaining customs brokers listed above and set forth below are currently active:

Last name | First name | License No. | Port of issuance
Koss | Lori J. | 20529/16184 (legacy) | Buffalo.
Downie | Kevin | 20664 | Chicago.
Gregerson | Gerda | 10970 | Houston.
Henry | Hiram L. | 12779 | Los Angeles.
Duncan | Robert A. | 15524 | New York.

CBP notes that Lori J. Koss's originally assigned customs broker license number (16184) had been inadvertently assigned to another customs broker. CBP had therefore taken the remedial step of issuing Ms. Koss a new broker license number (20529). Since that time, CBP has revoked the other customs broker license number (16184).

CBP also notes that Gerda Gregersen's assigned customs broker license number (10970) had earlier been assigned to another customs broker, Christopher J. Martin. CBP had therefore taken the remedial step of allowing Ms. Gregersen to retain her license number, and issued Mr. Martin a new license number (23628). Since that time, CBP has revoked Mr. Martin's customs broker's license (23628).

In the notice published in the Federal Register on December 6, 2012, the following customs brokers' names should have been identified along with their revoked broker license numbers. These brokers are no longer active.

Last name | First name | License No. | Port of issuance
Rennie | William E. | 16184 | Atlanta.
Harlow | David B. | 22867 | Atlanta.
Durkin | James T. | 05733 | Chicago.
Jones & Klink Corporation |  | 07798 | Los Angeles.
EWP Int'l, Inc. |  | 16645 | Los Angeles.
Lupian | Georginna L. | 07640 | San Diego.
Martin | Christopher J. | 23628/10970 (legacy) | Seattle.

Dated: August 2, 2013.
Richard F. DiNucci,
Deputy Assistant Commissioner, Office of International Trade.

[FR Doc. 2013-19122 Filed 8-7-13; 8:45 am]

BILLING CODE P